DEPARTMENT OF THE INTERIOR

Bureau of Indian Affairs

Indian Gaming

AGENCY: Bureau of Indian Affairs, Interior.

ACTION: Notice of Approved Tribal-State Class III Gaming Amendment.

SUMMARY: This notice publishes an approval of the amended and restated Tribal-State Compact for regulation of Class III Gaming between the Confederated Tribes of Grand Ronde and the State of Oregon.

DATES: Effective Date: July 14, 2006.

FOR FURTHER INFORMATION CONTACT: George T. Skibine, Director, Office of Indian Gaming Management, Office of the Deputy Assistant Secretary—Policy and Economic Development, Washington, DC 20240, (202) 219-4066.

SUPPLEMENTARY INFORMATION: Under Section 11 of the Indian Gaming Regulatory Act of 1988 (IGRA), Public Law 100-497, 25 U.S.C. 2710, the Secretary of the Interior shall publish in the Federal Register notice of approved Tribal-State compacts for the purpose of engaging in Class III gaming activities on Indian lands. This amendment allows for the expansion of the tribe's Video Lottery Terminals, table games as well as clarification of notice to the Oregon State Police, extension of credit, and contributions to the community fund. A section on transportation is added.

Dated: June 30, 2006.
Michael D. Olsen,
Principal Deputy Assistant Secretary—Indian Affairs.

[FR Doc. E6-11139 Filed 7-13-06; 8:45 am]

BILLING CODE 4310-4N-P